DEPARTMENT OF HEALTH AND HUMAN SERVICES

Administration for Children and Families

Proposed Information Collection Activity; Child Support Portal Registration (OMB No.: 0970-0370)

AGENCY: Office of Child Support Enforcement, Administration for Children and Families, Health and Human Services (HHS).

ACTION: Request for public comment.

SUMMARY: The Office of Child Support Enforcement (OCSE), Administration for Children and Families (ACF), is requesting the federal Office of Management and Budget (OMB) approve the “Child Support Portal Registration,” with revisions, for an additional three years. OCSE's Child Support Portal (“Portal”) contains applications to assist state child support agencies with administering their programs. Authorized Portal users must register with OCSE to access Portal applications and provide OCSE with certain preferences. The current OMB approval expires on February 28, 2022.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: OCSE's Division of Federal Systems maintains the Portal, which contains various applications that authorized users may view, update, and upload or download information for child support purposes. OCSE creates secure profiles for authorized users for employers, insurers, and financial institutions based on information provided in the Employer Services and Insurance Match Debt Inquiry Portal Registration forms. OCSE added the electronic National Medical Support Notice (e-NMSN), the electronic Incoming Withholding Order (e-IWO), and Multistate Financial Institution Data Match FAST Levy (MSFIDM FAST LEVY) Profile forms, which provide OCSE with information to set up the respective program user's process and capture preferences. State child support agencies manage and authenticate authorization for individual users via the state proxy server; therefore, a Portal Registration form is not required. State users must, however, provide OCSE with their respective Portal preferences.

Respondents: Employers, Financial Institutions, Insurers, and State Child Support Agencies.

Annual Burden Estimates
Information collection instrument | Tota estimated number of respondents | Total number of responses per respondent | Average burden hours per response | Total burden hours
Employer Services Agreement and Profile | 9,508 | 1 | 0.08 | 760.64
Insurance Match Debt Inquiry Agreement and Profile | 18 | 1 | 0.08 | 1.44
e-NMSN: Plan Administrator Profile | 5 | 1 | 0.22 | 1.10
e-NMSN: Employer Profile | 5 | 1 | 0.22 | 1.10
e-NMSN: State Profile | 5 | 1 | 0.22 | 1.10
e-IWO S2S Profile | 4 | 1 | 0.22 | 0.88
e-IWO NPO Profile | 46 | 1 | 0.22 | 10.12
MSFI-FAST Levy Profile | 5 | 1 | 0.08 | 0.40
Portal Registration Screens | 1,254 | 1 | 0.15 | 188.10

Estimated Total Annual Burden Hours: 964.88.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 653(m)(2) and 44 U.S.C. 3554.

Mary B. Jones,
ACF/OPRE Certifying Officer.

[FR Doc. 2021-15614 Filed 7-21-21; 8:45 am]

BILLING CODE 4184-41-P